DEPARTMENT OF TRANSPORTATION

National Highway Traffic Safety Administration

49 CFR Part 571

[Docket No. NHTSA-7648]

RIN 2127-AH 86

Federal Motor Vehicle Safety Standards; Child Restraint Anchorage Systems

AGENCY: National Highway Traffic Safety Administration (NHTSA), Department of Transportation.

ACTION: Final rule, response to petitions for reconsideration.

SUMMARY: This document responds to a number of issues raised by petitions for reconsideration of the agency's March 1999 final rule establishing Federal Motor Vehicle Safety Standard No. 225, Child Restraint Anchorage Systems, and of the agency's August 1999 final rule responding to the first round of petitions. Standard No. 225 has required vehicle manufacturers to provide the upper (tether) anchorage of a child restraint anchorage system in some of their vehicles since September 1, 1999. It also requires the installation of the lower anchorages of those systems in some vehicles beginning September 1, 2000.

In response to concerns of several petitioners about leadtime for and the stringency of the anchorage strength and other requirements in the March 1999 final rule, our August 1999 rule permits vehicle manufacturers to meet alternative requirements during an initial several year period. During this period, manufacturers have the alternative of meeting either the requirements for tether anchorages set by the March 1999 final rule or those previously established by Transport Canada. Manufacturers also have the alternative of meeting the requirements for lower anchorages set by the March 1999 final rule, or those consistent with a draft standard being developed by a working group of the International Organization for Standardization (ISO). The temporary alternative for tether anchorages was to last until September 1, 2001, and that for lower anchorages until September 1, 2002. In response to petitions for reconsideration, today's rule extends the temporary alternatives until September 1, 2004.

This document also addresses certain other issues that need to be resolved or clarified concerning the installation of child restraint anchorage systems in vehicles and how those systems are to be tested in the agency's compliance tests. Other issues raised by the petitions for reconsideration will be addressed in a subsequent document.

DATES: The amendments made in this rule are effective August 30, 2000.

If you wish to petition for reconsideration of this rule, your petition must be received by September 14, 2000.

ADDRESSES: If you wish to petition for reconsideration of this rule, you should refer in your petition to the docket number of this document and submit your petition to: Administrator, Room 5220, National Highway Traffic Safety Administration, 400 Seventh Street S.W., Washington, D.C., 20590.

FOR FURTHER INFORMATION CONTACT: For nonlegal issues: Michael Huntley, (202-366-0029), Office of Crashworthiness Standards, NHTSA.

For legal issues: Deirdre R. Fujita, Office of the Chief Counsel (202-366-2992), NHTSA.

You can reach both of these officials at the National Highway Traffic Safety Administration, 400 Seventh St., S.W., Washington, D.C., 20590.

SUPPLEMENTARY INFORMATION:

Table of Contents

I. Overview

a. The Most Important Changes Made By This Final Rule

1. Extension of Compliance Options until 2004

2. Other Issues Relating to Testing of Anchorage Systems

b. Putting This Rule in Perspective

2. Petitions for Reconsideration of March 1999 Final Rule

3. August 1999 Final Rule Responding to Petitions for Reconsideration

4. Petitions for Reconsideration of August 1999 Final Rule

5. To What Reconsideration Issues Does this Rule Respond?

6. The Remaining Issues

II. Extending the Compliance Options Until 2004

a. What did the Petitioners Request?

b. NHTSA Decides to Extend the Compliance Options

III. Changes to the Alternative ISO-Based Lower Anchorages Requirements of S15

a. Why Are Changes Needed to S15?

b. Are the Specific Provisions of S15.1.2.1 (d) and (e) Necessary?

c. Can the Lower Bars Be Bolted into the Vehicle?

d. Is Horizontal Excursion of Point X on the Static Force Application Device (SFAD) Measured Relative to an Undeformed Part of the Vehicle Body?

e. Can the Marking Requirements of S15.4 Be Satisfied by Installable Guidance Fixtures?

IV. Other Issues Relating to Installation and Testing of Anchorage Systems

a. Adjusting the Seat Back When Using SFAD 2

b. Locating a Tether Anchorage Using the 3-Dimensional Manikin

c. Reducing the Height of the Child Restraint Fixture (CRF)

d. When Fitting the CRF is Impracticable e. Subjecting Tether Anchorages and Lower Anchorages to a Single Pull Test

f. Simultaneously Testing LATCH Systems

g. Requirement to Identify Vehicles Certified to the Vehicle Requirements During the Phase-in

V. Request to Reconsider Owner's Manual Requirement

VI. Issues Relating to Small Manufacturers and Manufacturers With Temporary Exemptions

a. Alternative Phase-In Schedule for Small Manufacturers

b. Manufacturers With Temporary Exemption from Air Bag Requirement

VII. Reasons for the Effective Date of This Rule

VIII. Rulemaking Analyses and Notices

a. Executive Order 12866 (Federal Regulation) and DOT Regulatory Policies and Procedures

b. Regulatory Flexibility Act

c. Executive Order 13132

d. Unfunded Mandates Reform Act

e. National Technology Transfer and Advancement Act

f. National Environmental Policy Act

g. Executive Order 12778 (Civil Justice Reform)

h. Paperwork Reduction Act

I. Overview

a. The Most Important Changes Made by this Final Rule

1. Extension of Compliance Options Until 2004

This final rule responds to petitions for reconsideration of final rules published March 5, 1999 and August 31, 1999 establishing Federal motor vehicle safety requirements for child restraint anchorage systems. This document extends the period within which vehicle manufacturers may choose certain compliance options in certifying to Standard No. 225. Manufacturers were given the option of certifying tether anchorages to (1) Requirements that are consistent with those set by Transport Canada, or (2) the requirements set forth in the March 1999 final rule. The option was to expire September 1, 2001. Vehicle manufacturers also were given the option of certifying the lower anchorages of the anchorage system to (1) Requirements consistent with those set by a draft ISO standard, or (2) requirements set forth in the March 1999 final rule. The option was to expire September 1, 2002. This rule extends both of these expiration dates to September 1, 2004.

2. Other Issues Relating to Testing of Anchorage Systems

This final rule also addresses other issues that need to be resolved or clarified concerning the installation of child restraint anchorage systems in vehicles. It addresses the configuration requirements for the bars in S15 of Standard No. 225, and various aspects of the procedures for testing anchorages. It also addresses several issues concerning the applicability of the standard to manufacturers of particular types of vehicles.

b. Putting This Rule in Perspective

1. March 1999 Final Rule

On March 5, 1999, NHTSA published a final rule establishing Federal Motor Vehicle Safety Standard No. 225, Child Restraint Anchorage Systems (64 FR 10786, docket 98-3390, notice 2). The standard requires vehicle manufacturers to equip vehicles with child restraint anchorage systems that are standardized and independent of the vehicle seat belts.

The new system has two lower anchorages and one tether anchorage. Each lower anchorage includes a rigid round rod or bar onto which the connector of a child restraint system can be snapped. The bars will be located at the intersection of the vehicle seat cushion and seat back. The upper anchorage is a fixture to which the tether of a child restraint system can be hooked.

For convenience, this document refers to the three-point child restraint anchorage system as the “LATCH” system. “LATCH” stands for the phrase “Lower Anchors and Tether for Children.” LATCH was coined by some manufacturers and retailers for use in educating the public on the availability and use of the new system, and in marketing the system.

The standard required vehicle manufacturers to begin phasing-in the tether anchorage of the LATCH system in the production year beginning September 1, 1999, with full implementation beginning September 1, 2000. Manufacturers are required to begin phasing-in the lower anchorages in the production year beginning on September 1, 2000, with full implementation beginning September 1, 2002.¹

¹ The March 1999 final rule specified that, beginning September 1, 1999, 80 percent of a manufacturer's passenger cars were required to be equipped with tether anchorages, while all vehicles covered by the standard (including light trucks, vans, and multipurpose passenger vehicles with gross vehicle weight rating (GVWR) of 8,500 or less and buses with a GVWR of 10,000 pounds or less) are required to comply with the requirements by September 1, 2000. The final rule specified a 3-year phase-in period for the lower vehicle anchorages, which required 20 percent of each manufacturer's fleet to be equipped with compliant lower anchorages beginning September 1, 2000, 50 percent beginning September 1, 2001, and 100 percent beginning September 1, 2002.

2. Petitions for Reconsideration of the March 1999 Final Rule

We received petitions for reconsideration of the March 1999 final rule from the Alliance of Automobile Manufacturers (“Alliance”)(whose members were then BMW, DaimlerChrysler, Ford, General Motors, Mazda, Nissan, Toyota, Volkswagen, and Volvo),² and from Honda, Volkswagen, Porsche, DaimlerChrysler, General Motors, Mitsubishi, the National Truck Equipment Association, Kolcraft, E-Z-On Products, Cosco, Toyota, Ford, the Coalition of Small Volume Automobile Manufacturers, and Indiana Mills and Manufacturing. See NHTSA Docket No. 98-3390, Notice 2.

² Later submissions from the Alliance on Standard No. 225 list Fiat, Mitsubishi, and Isuzu also as members of the group.

The vehicle manufacturers asked us to reconsider certain performance and other requirements. Some of them expressed concern about the strength requirements for the tether anchorage and the lower bars, and asserted that:

(1) There is no safety need for requirements as stringent as those specified (i.e., for a 15,000 N strength requirement for tether anchorages (S6.3 and S8.1) and a 11,000 N strength requirement for the LATCH system lower anchorages (S9.4.1(a)) ³;

³ Not all petitioners addressing this subject believe the strength requirements were too stringent. Petitioner E-Z-On Products suggested in its petition for reconsideration that we should consider increasing the strength requirements for the tether anchorage.

(2) They could provide tether and lower anchorages meeting less-stringent Canadian requirements for the tether anchorage and less-stringent requirements for lower anchorages set forth in a draft standard being developed by a working group of the International Organization for Standardization (ISO) ⁴, by the compliance dates set forth in the March 1999 final rule, but they could not provide tether and lower anchorages meeting the more-stringent strength requirements established in that rule by those dates; and

⁴ The ISO is a worldwide voluntary federation of ISO member bodies. The draft ISO standard, ISO/22/12/WG1, is under development by Working Group 1 of the ISO.

(3) Because the March 1999 final rule applied to LATCH and tether anchorages voluntarily installed on vehicles after September 1, 1999, manufacturers would have to tear out LATCH and tether anchorages that they had voluntarily installed beyond the number required by the March 1999 rule because the anchorages could not meet the strength requirements of the rule.

The Alliance suggested that the agency either delay the effective date of the rule or adopt the Canadian requirements for the tether anchorage and the draft ISO requirements for the lower anchorages.⁵

⁵ The most significant differences between the Canadian requirements and those in our March 1999 final rule are Canada's specification of a lower force (10,000 Newtons (N), instead of 15,000 N) and Canada's method of applying the force (permitting the manufacturer the option of specifying the force application rate, instead of specifying a range of application rates that the agency could use). The draft ISO standard differs from our rule with respect to, among other issues, the magnitude of the force that is applied to the lower anchorages (8,000 N, instead of 11,000 N) and the rate of application of the force. For a discussion of these and other differences, see the August 31, 1999 final rule, footnotes 6 and 10, 64 FR at 47569-47571.

3. August 1999 Final Rule Responding to Petitions for Reconsideration

In response to concerns of several of the petitioners about leadtime for and the stringency of the anchorage strength and other requirements in the March 1999 final rule, NHTSA published a final rule on August 31, 1999 (64 FR 47566, docket 99-6160). Among other things, the August 1999 rule permitted vehicle manufacturers to meet alternative requirements during an initial several year period. Until September 1, 2001, manufacturers were permitted to meet either the requirements in the March 1999 final rule or the less-stringent Canadian requirements for tether anchorages. Until September 1, 2002, manufacturers were permitted to meet the requirements for the lower anchorages consistent with those set forth in the draft ISO standard.

NHTSA balanced the benefits associated with vehicle manufacturers providing the new tether and lower anchorages, albeit ones meeting the less-stringent Canadian and draft ISO requirements, in accordance with the original schedule against the possible consequences of not providing for that alternative means of compliance. One possible consequence could have been a delay in the introduction of the new tether and lower anchorages. We might have had to extend the leadtime for installation of anchorages that met the strength requirements of the March 1999 rule by several years or establish a more drawn out phase-in schedule. Another consequence could have been that manufacturers would have had to remove voluntarily-installed tether anchorages and LATCH systems that did not meet the requirements of the March 1999 final rule, even if they did meet the Canadian and draft ISO requirements.

We concluded that, on balance, safety would be best served if the Canadian and draft ISO requirements were allowed as a compliance option for an interim period. We determined that the early availability of tether anchorages, even ones meeting the Canadian requirements, would promote safety by increasing the likelihood that parents will attach a top tether on a child restraint system. Compared to an untethered child restraint, a tethered child restraint offers improved protection against head impact in a crash. A tether anchorage that complies with the Canadian strength requirement will offer a level of safety that is significantly better than the one that would exist with no tether anchorage at all. We similarly concluded that lower anchorages meeting the draft ISO requirements would provide safety benefits for parents who have difficulty attaching a child restraint correctly in a vehicle or whose vehicle seats are incompatible with child restraints. Thus, the agency's adoption of these interim compliance alternatives made it possible to begin reaping the benefits of LATCH systems sooner than would have been possible under the March 1999 final rule.

The August 1999 final rule also responded to other issues. With regard to some issues, such as some of the technical ones addressing specifics on how an anchorage is to be tested and limiting the information that manufacturers have to provide in vehicle owners manuals on LATCH systems, the agency granted requests to amend the March 1999 rule. For some of the other issues, the agency denied or partially granted the petitions for reconsideration, which prompted some manufacturers to re-petition the agency to reconsider the decisions based on new information.

4. Petitions for Reconsideration of the August 1999 Final Rule

Petitions for reconsideration of the August 1999 final rule were submitted by the Alliance, Ford, Volkswagen, and Keiper GmbH & Co. (Keiper).

The petitions from the Alliance and Volkswagen ⁶ repeated or elaborated on many issues that were in the Alliance's original petition for reconsideration of the March 1999 final rule and that were not addressed by the August 1999 document (see I.b.6, below). The Alliance's petition also made the following key requests pertaining to the decisions we made in the August 1999 final rule. We were asked to reconsider our decisions:

⁶ Volkswagen (VW) also asked in its October 14, 1999 petition whether a tether anchorage would comply with the March 1999 final rule if it consists of (1) a fixed and permanent anchorage installed in a vehicle seatback structure and (2) “a deployable tether attachment device that could be removed without the use of any tools other than a screwdriver or a coin and separately stored until needed for attachment of a child restraint tether hook.” We interpret Standard No. 225 as precluding such a tether anchorage. S3 of the standard defines “tether anchorage” as a user-ready, permanently installed vehicle system. S6.1 requires tether anchorages to be accessible without the need for any tools (other than a screwdriver or coin) and once accessed, be ready for use without the need for any tools. These requirements are intended to ensure that a vehicle owner will be able to use the tether anchorage when needed, without having to search for a part or to install an attachment device. VW asked for reconsideration of S6.1 if the requirements precluded such a tether anchorage. VW's request appears untimely. S6.1 was adopted by the March 1999 final rule and we did not receive any petition for reconsideration of the “user-ready” and “permanency” requirements. Under our rulemaking regulation (49 CFR Part 553), petitions for reconsideration must be received within 45 days after publication of a final rule. Petitions for reconsideration received after that period will be considered petitions filed under our rulemaking procedures (Part 552). We note further that VW's document is incomplete as a petition for rulemaking. It does not provide sufficient information setting forth facts establishing that an order is necessary, and does not set forth a brief description of the substance of the order which VW believes should be issued (§ 552.4(c) and (d)). We will not process the document as a petition for rulemaking until further information is received from the petitioner.

A. To limit availability of the option that manufacturers may meet Canadian requirements for the tether anchorage until August 31, 2001 (manufacturers asked for a one-year extension of the interim tether requirements, until August 31, 2002);

B. To adopt specifications from the draft ISO standard that limit the design flexibility of the configuration of the lower bars;

C. To deny the request to shorten the rate of application of the applied forces and the length of time the force is held (Keiper also made this request);

D. To deny the request to require only two tether anchorages for multipurpose passenger vehicles (MPVs) ⁷ with five or fewer designated seating positions, and to deny the request to remove the requirement for a tether anchorage at a center rear seating position; ⁸

⁷ “Multipurpose passenger vehicle” is defined in 49 CFR § 571.3 as “a motor vehicle with motive power, except a low-speed vehicle or trailer, designed to carry 10 persons or less which is constructed either on a truck chassis or with special features for occasional off-road operation.”

⁸ In allowing manufacturers the option of meeting Canadian requirements for tether anchorages, the August 1999 final rule permitted the installation of only two tether anchorages during the optional compliance period. The rule also relieved manufacturers from the requirement that one of the tether anchorages must be at a center seating position during the optional compliance period.

E. On aspects of the test procedures used in compliance tests of anchorages, including our denial of the recommendation to use a device other than the 3-dimensional H-point machine to determine whether a tether anchorage is within the required zone;

F. To permit foldable or storable lower anchorages only during the period within which manufacturers may meet the draft ISO standard (this request was also made by Keiper);

G. On reducing the size of the child restraint fixture (manufacturers ask that the fixture be further reduced); and

H. To deny a request to remove the requirement that vehicle manufacturers provide step-by-step instructions on attaching a child restraint tether to the vehicle's tether anchorage.

Ford petitioned for reconsideration of the August 1999 final rule's amendments to several aspects of the test procedure for testing tether anchorages, making the following key requests. We were asked to reconsider our decisions:

I. To change the point at which displacement is measured when testing a tether anchorage using the test device that attaches to the vehicle seat by the vehicle's seat belt system; and

J. To use a cable to apply the test forces to the tether anchorages, instead of high-strength webbing material.

Ford also asked for clarification of various requirements set forth in Standard No. 225, and suggested technical corrections to the figures referenced in Standard No. 213.

5. To What Issues From the Petitions for Reconsideration Does This Rule Respond?

This final rule:

(1) Extends the period within which manufacturers may meet Canadian requirements for tether anchorages and draft ISO requirements for lower anchorages (addressing issue “A” in section I.b.4, supra); and

addresses issues relating to—

(2) The configuration requirements for the bars set forth in S15 of Standard No. 225, (issue “B” in section I.b.4);

(3) Various aspects of the test procedures for testing anchorages (issues “E” and “G” in section I.b.4); and

(4) The applicability of the standard (to small manufacturers; to manufacturers of vehicles that cannot meet the pitch, roll and yaw requirements with the child restraint fixture installed; and to manufacturers of vehicles temporarily exempted from Standard No. 208's requirement to provide an air bag at the front passenger seating position).

This final rule also:

(5) Denies a request from the Alliance asking for a one-year deferral of the requirement for detailed instructions in vehicle owner's manuals on attaching a child restraint's tether strap to the vehicle's anchorage (issue “H” in section I.b.4).

6. The Remaining Key Issues

The key issues that we have yet to resolve from the petitions for reconsideration of the March and August 1999 final rules are listed below.

We will be addressing issues relating to the requirements establishing the strength of the anchorages. Key issues pertain to:

—The 15,000 N strength requirement for tether anchorages (S6.3 and S8.1) and the 11,000 N strength requirement for the LATCH system lower anchorages (S9.4.1(a));

—The displacement limit of 125 mm; and

—The rate of application of the applied forces and length of time the force is held.

As noted above, we received a number of petitions for reconsideration of the strength requirements of the March 1999 final rule. Many petitioners believe that the strength requirements were too stringent and discussed their reasons for that conclusion. In elaborating on its petition submitted in response to the March 1999 final rule in favor of reducing the strength requirements, the Alliance submitted a paper dated February 29, 2000 (entry 6160-11 in the docket) entitled, “Engineering Basis for Strength Tests of Child Restraint Anchors (FMVSS 225) (February 16, 2000).” The paper found that, based on a 27 kg mass (total mass of a child restraint system and child occupant) and a 27 g peak acceleration of a 1999 Dodge Intrepid vehicle in a frontal 30 mile per hour (mph) rigid barrier impact, the expected peak force on the child and child restraint is 7,200 N. Based on this, the report concluded that Standard No. 225 should specify a pull force of 8,000 N, and not 15,000 N. However, in following up on the analysis, Transport Canada substituted the crash pulses it had obtained in frontal 30 mph rigid barrier crash tests of 1995 to 1999 model year vehicles. Transport Canada found that peak accelerations of many of these vehicles were higher than the 27 g used in the Alliance report and, if a heavy child restraint and child were using a child restraint anchorage system, the forces on the child restraint anchorage system could be higher than 12,000 N (entry 6160-19). We are considering the merits of these comments.

Ford suggested in a submission dated December 17, 1999 (6160-8, page 3) that the displacement criterion of 125 mm be applied in forward pull tests only at an 8,000 N force (9,000 N for SFAD 2 with tether strap attached), and that the “ability to withstand” criterion be the measure of compliance at higher forces. Ford suggests:

To allow a single test to determine compliance with both Standard 225 and the ISO standard, the 8 kN force should be applied with an approximately linear increase in force over 2 seconds, with ISO displacement measured after 0.25 seconds and Standard 225 displacement measured at the end of a 1 second hold period. After the hold period, force would increase roughly linearly to 15 kN over 25 seconds (11 kN for an untethered SFAD 2), followed by a 2 second hold period (for both the 11 kN and 15 kN tests).

We are considering the merits of this comment. An issue raised by the suggestion is the need for Standard No. 225's requirement for a 10-second hold period for the lower LATCH anchorages.

The Alliance suggested in its February 29 submission (6160-11) that an alternative approach to measuring displacement for determining compliance of the lower anchorages of a LATCH system is to use a sliding scale of excursion limits based on the available space where the child restraint system would be anchored. An excursion limit of 125 mm would be used in smaller vehicles while vehicles with larger seating areas could have larger limits (page 17 et seq.).

We are considering the merits of a sliding scale approach for determining compliance of the lower anchorages and the tether anchorage of LATCH systems. The sliding scale approach is also under consideration by Transport Canada for possible inclusion in that country's proposal for child restraint anchorage systems (6160-19).

We will also be addressing whether to:

—Make the configuration requirements for the lower bars (S9.1) consistent with today's amendments to S15.1.2;

—Expand the zone in which the lower bars may be placed (S9.2);

—Permit foldable or storable lower anchorages past August 31, 2004; and

—Remove the requirement for a tether anchorage in a center seating position and a third tether anchorage in some MPVs.

On the requirements that (1) all passenger vehicles with three forward-facing rear designated seating positions must have three tether anchorages at those positions and (2) all passenger vehicles with a center rear designated seating position must have a tether anchorage at that seat position, the Alliance submitted a document dated October 20, 1999 to supplement its petition for reconsideration of the August 1999 final rule (see docket 6160-6). The document suggests reasons why NHTSA should exclude certain vehicles from the requirements (page 8 et seq.). The Alliance included a suggestion that the following exclusions be added to the standard:

—A middle seating position which does not meet the requirements of the Society of Automotive Engineers (SAE) Recommended Practice J1819, “Securing Child Restraint Systems in Motor Vehicle Rear Seats,” provided that the manufacturer provides language in its vehicle owners manual specifically instructing owners that the seating position is not recommended for use with child restraints;

—A middle seating position where the seatback is divided into two or more sections which may be folded independently of each other, and the division between two sections lies substantially along the seating reference plane of the middle seating position; and

—A middle seating position with a folding seat where an installed child restraint would bar access to the rear seats.

Further, the Alliance suggested in a June 2, 2000 submission that if an additional rear seating position is available in the vehicle, NHTSA should require this position to be equipped with a tether anchorage as a replacement for the exempted non-outboard anchorage position.

We are considering the merits of the suggestion.

We will also respond to the petitions for reconsideration that asked us to:

—Permit a LATCH system in the front passenger seating position in vehicles with or without an air bag on-off switch or an advanced air bag;

—Change the marking requirements (S9.5) for the lower bars; and

—Exclude backless booster seats from the requirement in Standard No. 213 to provide the attachments for connecting to the lower anchors of a LATCH system.

We will also be addressing the issues Ford raised in its petition for reconsideration of the August 1999 final rule.

II. Extending the Compliance Options Until 2004

a. What Did the Petitioners Request?

The Alliance asked in its petition for reconsideration of the August 1999 final rule that we extend the time period in which they are permitted to meet the alternative compliance options adopted in the rule. In its petition, the Alliance requested a one-year extension of the compliance option for tether anchorages, i.e., until September 1, 2002. (October 15, 1999 petition for reconsideration.) Later, the petitioner asked that the compliance option for tether anchorages and for lower anchorages be extended until September 1, 2004. (Letters dated December 23, 1999, February 28, 2000, and April 13, 2000.)

Members of the Alliance, and other manufacturers, have indicated in submissions to Docket NHTSA 99-6160 that they are experiencing many difficulties designing and incorporating anchorages that meet the requirements prescribed in Standard No. 225 on several vehicles, especially sport utility vehicles (SUVs) and light trucks. They stated that they will need to make extensive structural changes to the affected vehicle models to meet the strength requirements of the March 1999 final rule. They said that those changes will substantially increase the cost and mass of the vehicles (Ford and General Motors have quantified the increases in submissions that have been granted confidentiality by NHTSA), and may result in possible elimination of some desirable features now offered as options to customers, such as adjustable front passenger seats and split bench seats. That elimination might be the necessary result of our requirements because, unlike sedans that can meet the strength requirements of the March 1999 final rule because the rear filler panel just behind the top of the rear seat provides a stiff anchor area, vehicles such as station wagons, hatchbacks, pickups and SUVs have no comparable place to anchor a tether strap straight behind the top of the seat. The seats and the vehicle structure would have to be substantially strengthened to withstand the strength requirements, which would require plant modifications and retooling of assembly lines. Petitioners have stated that these impacts are unwarranted, given their belief that the strength requirements are overly stringent and demand margins of safety much beyond what is necessary for reasonable crash protection.

Manufacturers also raised concerns about how they are to design future vehicles to the rule's strength requirements. They stated that they petitioned for reconsideration of the March 1999 strength requirements in April 1999 and have not yet learned how the agency will resolve the issues. NHTSA has deferred responding to the objections to the strength requirements, partly to analyze the proposed regulation that Transport Canada will be issuing on the three-point child restraint anchorage system and the strength requirements of the proposal.⁹ This deferral of our response has made it difficult for manufacturers to decide whether to expend large resources to redesign model year (MY) 2002 and 2003 vehicles.

⁹ Transport Canada has announced it is considering proposing a regulation that would set strength requirements for tether anchorages at 15,000 N, and which would specify strength requirements for lower anchorages at the 11,000 N level.

b. NHTSA Decides To Extend the Compliance Options

Extending the compliance options until September 1, 2004 (through MY 2004) will reduce the uncertainty facing manufacturers. We are continuing to consider the petitions for reconsideration of the strength requirements of the March 1999 rule. Today's final rule extending the availability of the alternative compliance options will provide us additional time to complete our analysis of the petitions for reconsideration and decide whether the strength requirements should be amended.

Manufacturers have provided information supporting their contention that meeting the strength requirements of the March 1999 rule when the compliance options expire would entail extensive structural changes to their vehicles, resulting in considerable increases in the cost and mass of the vehicles. They state that they must now begin changing manufacturing processes for the vehicles produced after September 1, 2002 (MY 2003). If the compliance options were not extended, manufacturers would have to decide whether to change their processes, on the assumption that NHTSA will not amend the requirements of the March 1999 final rule, and substantially redesign vehicles which could not comply, at substantial cost. Alternatively, they could decide not to change their manufacturing processes, on the assumption that NHTSA will amend the requirements of the March 1999 final rule. However, they would not be allowed to sell those vehicles if NHTSA were not to amend the March 1999 rule and their vehicles could not comply.

Extending the compliance options until September 1, 2004 will help facilitate the installation of LATCH systems in vehicles. Manufacturers have indicated that, if the compliance options were not extended to 2004, they would be unable to meet the current phase-in schedule established by the March 1999 rule, even if they could use the lower strength anchorages through the end of the phase-in schedule. Further, if the compliance options were not extended, many voluntarily-installed tether anchorages would be removed from the designs of MY 2002 vehicles and many voluntarily-installed LATCH systems would be removed from the designs of MY 2003 vehicles, because the systems do not meet the March 1999 final rule and manufacturers do not know the requirements we will ultimately adopt. Accordingly, for the reasons stated above, we have decided to extend the compliance options until August 31, 2004.

III. Changes to the Alternative ISO-Based Lower Anchorages Requirements of S15

a. Why Are Changes Needed to S15?

In its petition for reconsideration of the August 1999 final rule, the Alliance petitioned NHTSA to amend some aspects of the agency's incorporation of the draft ISO requirements for lower anchorages into S15 of Standard No. 225. (S15 sets forth the temporary compliance option available to manufacturers to meet draft ISO requirements for the lower anchorages.) The Alliance believes that there are inconsistencies between the draft ISO requirements and our August rule concerning the features of the lower anchorages (S15.1.2.1). Manufacturers that have been designing lower anchorages to meet the draft ISO requirements will not be able to meet Standard No. 225 because of those inconsistencies. The petitioner believes that there is no reason for them and has petitioned us to remove them. Petitioner also asked for clarification of several other requirements.

We have reviewed the petition and generally agree that the inconsistencies should be resolved.¹⁰ In adding the provisions of the draft ISO standard into Standard No. 225, we did not make any significant changes to the ISO provisions. However, some manufacturers have raised concerns that a few of the ISO provisions were meant to be design guides for vehicle manufacturers and were not intended as regulatory requirements. For instance, the ISO draft has a provision, which the August 1999 final rule added, that states that the lower anchorage bars must be 280 mm apart, center-to-center (S15.1.2.1(e)). As discussed immediately below, manufacturers have petitioned for reconsideration of the requirement in S15, believing that the distance should be nominally 280 mm, and not precisely 280 mm. A letter from the Alliance dated April 13, 2000 explains these differences in detail.

¹⁰ Some of the provisions in S9.1.1 of Standard No. 225 are identical to the ones in S15 addressed today. Our next final rule responding to pending issues from the petitions for reconsideration will address making changes to S9.1.1 of Standard No. 225 to reflect the changes made in today's document.

b. Are the specific provisions of S15.1.2.1(d) and (e) necessary?

S15.1.2.1(d) and (e) require that lower anchorage bars be made so that they can be connected to, over their entire 25 mm length, by the connectors of a child restraint system, and are 280 mm apart, measured from the center of the length of one bar to the center of the length of the other bar. The Alliance asked whether the requirements could be deleted as unnecessary. Our answer is yes. The requirements were adopted to ensure that the bars are sufficiently long and adequately spaced to couple effectively with the connectors of a child restraint system. These purposes can be achieved using the “child restraint fixture” (CRF) referenced in Standard No. 225, because the CRF rearward extensions are 280 mm apart and are 25 mm wide (see Figure 2 of Standard No. 225). Further, under S15.1.2.2, the vehicle must allow attachment of the CRF. Thus, the CRF's successful attachment to the anchorages would confirm compliance with the intention that the anchorages are long enough to attach a child restraint system and spaced an appropriate distance apart.

c. Can the lower bars be bolted into the vehicle?

S15.1.2.1(f) requires that the lower bars must be “an integral and permanent part of the vehicle or vehicle seat.” The Alliance asked whether bars that were bolted into the vehicle would be considered permanent and integral, “just as bolted-in vehicle seats are permanent and integral?” Our answer is that anchorages that are bolted into the vehicle are considered permanent and integral, provided that they cannot be removed without the use of a tool, such as a screwdriver or wrench. This is consistent with the approach taken in S5.9 of Standard No. 213 with respect to the “permanent” attachment of the components to a child restraint that enable the child restraint to fasten to a LATCH system (see 64 FR 47584). S5.9(a) states, in part, that: “The components must be attached such that they can only be removed by use of a tool, such as a screwdriver.” Specifying that the bars are permanently attached to the vehicle or vehicle seat such that they can only be removed by use of a tool, and specifying the type of tool, makes the requirement more objective while limiting how easily the bars can be removed. Limiting easy removal of the bars will increase the likelihood that the bars are in place when needed.

d. Is Horizontal Excursion of Point X on the Static Force Application Device (SFAD) Measured Relative to an Undeformed Part of the Vehicle Body?

S15.2.2 specifies that horizontal excursion of point X on the Static Force Application Device (SFAD) shall be not more than 125 mm, after preloading the device. The Alliance asked whether the horizontal excursion is measured relative to an undeformed part of the vehicle body. Our answer is yes.

The Alliance believes that movement of the vehicle body relative to the chassis frame during the Standard No. 225 static test is not relevant to child safety. Rather, the only relevant movement of the SFAD is movement relative to the body, particularly the front seats, etc., ahead of the SFAD. As such, for displacement limits, an undeformed reference frame should be used for measuring displacement in body-on-frame vehicles. The Alliance could not identify a reference point that would be appropriate for all body-on-frame vehicles, but instead has recommended that NHTSA incorporate language similar to that used in Standard No. 204, “Steering Control Rearward Displacement (49 CFR § 571.204),” which states that displacement should be measured “in relation to an undisturbed point on the vehicle.”

We agree that it would be more appropriate to measure displacement relative to an undisturbed point on the vehicle body for the reasons provided by the Alliance. We have amended S15.2.2 and S9.4.1 to specify that horizontal excursion of point X is measured relative to an undisturbed point on the vehicle body.

e. Can the Marking Requirements of S15.4 Be Satisfied by Installable Guidance Fixtures?

S15.4 specifies that “at least one anchorage bar (when deployed for use), one guidance fixture, or one seat marking feature shall be readily visible to the person installing the CRF * * *” The guidance fixture may be permanent or nonpermanent (“installable,” such as a snap-on accessory). The Alliance asked to add the parenthetical “(when installed)” after “guidance fixture”. The petitioner suggested that the parenthetical should be added because NHTSA expressed an intent in the August 1999 final rule to incorporate the provisions of the draft ISO standard, and the ISO standard has been amended to include the parenthetical.

We will not add the parenthetical. The parenthetical suggests that manufacturers could satisfy marking requirements if they provided the guidance fixtures without actually installing them. We have concerns that consumers will fail to realize the existence of the installable guidance fixtures if the fixtures are not already attached to the bars at the point of sale. If the guidance fixtures are attached to the bars, the vehicle owner will either leave them attached or must handle them him- or herself in removing them. That attention to the fixtures will make it more likely that owners will realize that the fixtures exist and will remember to use them when they are needed. To clarify S15.4, we are adding a sentence that makes it clear that that section's marking and conspicuity requirements are met by either a guidance fixture that is installed in a vehicle when the vehicle is offered for sale to the consumer, or by one anchorage bar (when deployed for use) or one seat marking feature.

The Alliance suggested that the parenthetical should be added because NHTSA expressed an intent in the August 1999 final rule to incorporate the provisions of the draft ISO standard. NHTSA used the June 22, 1998 draft version of the ISO standard in developing the March 1999 final rule. The June 1998 version did not have the parenthetical “(when installed)” after “guidance fixture.” ISO added the parenthetical in a subsequent version of the draft ISO standard. In any event, we do not believe that this aspect of the current draft ISO standard is crucial to making sure that LATCH systems can be installed as quickly as possible, or that installing snap-on guidance fixtures is so arduous that it would delay introduction of the systems in vehicles.

IV. Other Issues Relating to Installation and Testing of Anchorage Systems

The following amendments relate to the test procedures used in the interim to test tether anchorages and LATCH systems to the Canadian and draft ISO requirements, respectively. These changes are made in response to issues raised in petitions for reconsideration of the rules.

a. Adjusting the Seat Back When Using SFAD 2

The Alliance and Keiper asked in petitions for reconsideration of the March 1999 and August 1999 final rules whether a vehicle's seat back can be adjusted if the Static Force Application Device 2 (SFAD 2) cannot be attached to the lower anchorages with the seat back in its most upright position. In response, we have added a provision in today's rule that allows for adjustment of the seat back.

The March 1999 final rule provides for the adjustment of the vehicle's seat back when testing a tether anchor or a LATCH system at the seating position. The March rule had specified that, for the purpose of testing the lower bars or the tether anchorage of a LATCH system, the seat back is placed in its most upright position. Toyota stated:

When the seat back is placed in its most upright position, in some vehicle seats the SFAD 2 cannot attach to the lower anchorages. In the real world, if a CRS [child restraint system] can not attach to the anchorages, we believe the vehicle owner will adjust the seat back such that the CRS can be attached. Therefore, Toyota requests that the agency amend S7(a) and S10(a) to allow for adjustment of the seat back for cases where the SFAD 2 can not be attached to the lower anchorages with the seat back in its most upright position.

To address Toyota's concern, in our August 1999 rule we amended S7(a) to add the following statements to the test procedure for testing tether anchorages:

When SFAD 2 is used in testing and cannot be attached to the lower anchorages with the seat back in this position, adjust the seat back as recommended by the manufacturer in its instructions for attaching child restraints. If no instructions are provided, adjust the seat back to the position that enables SFAD 2 to attach to the lower anchorages that is the closest to the most upright position.

Because the August 1999 rule did not address most testing issues concerning the lower anchors, we did not add the statement to S10(a). In their petitions for reconsideration of the August 1999 rule, the Alliance and Keiper, a vehicle seat manufacturer, asked us to add the statement to S10(a). We agree with the petitioners that the statement should be included in S10(a), and have added the provision to S10(a) for the same reasons we amended S7(a).

b. Locating a Tether Anchorage Using the 3-Dimensional Manikin

The Alliance included in its October 1999 petition for reconsideration a request for us to reconsider, for the second time, S6.2, “Location of the tether anchorage,” to provide that the location of a tether anchorage is found using the design H-point for a seat position, rather than the actual H-point of the seat. The latter point is determined using a three-dimensional H-point machine (3-Dimensional seating manikin).

In the August 1999 rule, NHTSA denied the Alliance's request to use the design H-point to locate the tether anchor. The petitioner believed that—

Because of variability in position of the 3-Dimensional Seating Manikin when installed by different individuals and laboratories, the actual H-Point as determined with the Manikin will also vary in location with respect to the ‘design H-Point’ for that seat position. These variations also occur, in part, because of the poor fit of the Manikin in certain seating positions, and differences in trim materials (e.g., cloth vs. leather). Because of this inherent variability, the NHTSA procedure does not objectively measure the proper position for a tether anchorage.

The petitioner emphasized that Canada uses the design H-point to locate the tether and argued that we should do the same.

We did so for several reasons. We believed compliance tests would be easier to conduct if we used the manikin. This was because using the manikin would allow us to forego consulting with manufacturers to determine the location of the design H-point. We also stated that using the manikin results in an H-point measurement that is more representative of the real world than the design H-point. Further, we disagreed with the petitioner's belief that there were variability problems using the manikin. We stated that we have not encountered problems using the manikin to determine the H-point of a seating position for positioning the test dummies in Standard No. 208 and 214 crash tests. We also stated that the manikin produces dummy positioning equivalent to that obtained by manufacturers using the device in their own test laboratories, and produces repeatable results when used repeatedly in the same vehicle. We stated that the position of the H-point obtained using the manikin is very close to the H-point obtained using the 2-dimensional template. We thus believed that, to the extent needed, manufacturers can compensate for and design around the small differences. However, we allowed manufacturers optional use of the design H-point during the period in which they are permitted by Standard No. 225 to meet the Canadian requirements for tether anchorages.

In its October 1999 petition for reconsideration, the Alliance reiterated that a round robin test program that its predecessor, the Motor Vehicle Manufacturer's Association (MVMA), undertook found that use of the 3-dimensional H-point machine did not achieve duplicate results when an identical vehicle was tested at different testing facilities. “Differences were as much as 2 inches in some cases.” Further, the petitioner believed that the H-point machine could be used to determine the seating position of a crash test dummy, where some variability may be inconsequential, whereas using the machine for the determination of anchorage zones is a different matter. The petitioner stated:

A two inch (in all directions) uncertainty in H-Point location is not practicable when designing an anchorage location in a vehicle. Given the relatively close tolerance already specified for the anchorage zones, manufacturers cannot ‘compensate for and design around the small differences’ as the agency apparently believes.

We continue to believe that the H-point machine does not introduce excessive variability. However, on reconsideration, we have concluded that using the seating reference point (SgRP), as defined in 49 CFR 571.3, instead of the 3-dimensional machine, will accomplish the purposes of the standard and will remove potential controversy. “Seating reference point (SgRP)” is defined in 49 CFR 571.3 as:

the unique design H-point, as defined in SAE J1100 (June 1984), which:

(a) Establishes the rearmost normal design driving or riding position of each designated seating position, which includes consideration of all modes of adjustment, horizontal, vertical, and tilt, in a vehicle;

(b) Has X, Y, and Z coordinates, as defined in SAE J1100 (June 1984), established relative to the designed vehicle structure;

(c) Simulates the position of the pivot center of the human torso and thigh; and

(d) Is the reference point employed to position the two-dimensional drafting template with the 95th percentile leg described in SAE J826 (May 1987), or, if the drafting template with the 95th percentile leg cannot be positioned in the seating position, is located with the seat in its most rearward adjustment position.

Using the SgRP will be equivalent to using the “design H-point” referenced in the part of

Standard No. 225 that incorporates Transport Canada's requirements for tether anchorages. S6.2.1 of the standard will be revised to specify that the zone within which the tether anchorage must be located is defined with reference to the seating reference point. We note that the figures in the standard that depict the zones refer to the “H point.” We will specify in the standard that for purposes of the figures, “H Point” is defined to mean seating reference point.

c. Reducing the Height of the Child Restraint Fixture

Standard No. 225 requires vehicles and LATCH systems to allow the child restraint fixture (CRF) specified in the standard to be placed inside the vehicle and attached to the lower anchorages. Several manufacturers petitioned for reconsideration of the March 1999 final rule asking us to reduce the size of the CRF described in the standard because it was larger than many child restraint systems. We agreed in the August 1999 response to petitions for reconsideration and amended S9.3 to specify that, to facilitate installation of the CRF in a vehicle seat, the side and top frames of the CRF may be removed in order to place it in the vehicle. We added Figure 1A to the standard to illustrate the CRF with the side and top frames removed.

In its October 1999 petition for reconsideration of the August 1999 response, the Alliance petitioned to reduce height of the back of the CRF. The Alliance believed that the 720 mm height of the CRF is inappropriate for certain types of vehicles that have roof lines that drop sharply downward near the back (e.g., sporty 2+2 passenger cars). In such vehicles, a 5th percentile female and most child restraints can fit into the rear seat, but the CRF, with a height of 720 mm, will not. The petitioner suggested that NHTSA should reduce the height of the CRF to 550 mm.

NHTSA acknowledged in the August 1999 final rule responding to petitions for reconsideration that the CRF is larger than many child restraint systems, and that even if the CRF does not fit in a vehicle's rear seat, there will be child restraint models that will be small enough to fit. NHTSA is not opposed to reducing the height of the CRF to facilitate its installation in certain vehicles where the full-height CRF (720 mm) cannot fit. However, instead of adopting the 550 mm height suggested by the Alliance, NHTSA believes that 560 mm is more appropriate, as discussed below.

S5.2.1.1(a) of Standard No. 213 (49 CFR § 571.213) prescribes the minimum seat back height for child restraint systems according to the recommended weight ranges for those restraint systems. Under Standard No. 213, child restraints certified for use by children weighing more than 20 pounds (9 kilograms (kg)) but less than 40 pounds (18 kg) (typically forward-facing restraints or convertible restraints (which are adjustable so that they can be used rear-facing by an infant or a very young child, and forward-facing by a toddler)) must have a minimum seat back height of (510 mm) and restraints that are for use by children weighing more than 40 pounds (18 kg) must have a minimum seat back height of 22 inches (560 mm). We are revising S9.3 of Standard No. 225 to specify that, if necessary, the height of the CRF may be reduced to 560 mm. We believe that, with the height of the CRF reduced to 560 mm and disassembled as provided for in the August 1999 rule, the device will be able to fit in the space provided by all vehicle seats.

d. When Fitting the CRF Is Impracticable

S15.1.2.2 of Standard No. 225 (incorporating, for the interim, the draft ISO requirements for the lower anchorages of LATCH systems) specifies that the CRF is used to locate the lower bars. The CRF is placed against or near the vehicle seat back. With the CRF attached to the anchorages and resting on the seat cushion, S15.1.2.2 requires that the bottom surface of the CRF have attitude angles within certain limits (with angles measured relative to the vehicle horizontal, longitudinal and transverse reference planes). (Pitch must be 15° ± 10°, roll 0° ± 5°, and yaw 0° ± 10°.) ¹¹

¹¹ A rulemaking document that we will be publishing later this year will be incorporating these pitch, roll and yaw requirements into the requirements of S9.

In its petition for reconsideration of the March 1999 final rule, Porsche asked that NHTSA amend Standard No. 225 to exclude rear-engine, 4-seat passenger cars from the requirement that requires vehicles with not more than two rear designated seating positions to be equipped with a LATCH system at each rear seating position. The Porsche 911 is designed as a rear-engine, 4-seat vehicle, with the rear seats actually being two padded shells integrated into the body panel and separated by the middle tunnel used by the transmission. The backs of the seats are individually foldable to provide additional cargo space in case the compartment is not used for the transportation of passengers (only the seat padding folds, and not the actual seat structure as in typical foldable seats).

The contour of the 911's seat shell, along with the 120-mm and 70-mm spacing requirements, do not allow the CRF to be positioned in a stable or compliant manner. Given the shape of the seat/body shell, the spacing requirements in the regulation, and the interference of components behind the body shell, the lower anchorage points must be located so high in the shell that the positive pitch angle criteria (15 +/−10 degrees) cannot be met, with the consequence that an installed child seat rests in an unstable, wobbly position with a negative pitch angle on the child seat bottom.

NHTSA has met with Porsche to view a model year 2000 Porsche 911 with prototype lower anchorages installed to visually examine the difficulties encountered as described above. (Summaries of the meetings have been placed in the docket.) Porsche has addressed numerous design alternatives presented by both NHTSA and Transport Canada in the meetings, and explained reasons underlying its conclusions that each alternative would not provide the necessary relief (i.e., use of soft attachments, incorporation of foldable anchorages, and use of extra seatback padding).

We believe that incorporation of lower anchorages into the rear seating position of the Porsche 911 is impracticable, based on the following points:

—The proximity of the Porsche 911 body shell to the rear bucket seats, in conjunction with the spacing requirements for the lower LATCH anchorages in Standard No. 225, makes it impossible to locate the lower anchorages so that the CRF can meet the pitch, roll, and yaw requirements of the standard;

—Because the Porsche 911 is a rear engine vehicle, the anchorages cannot be moved and still meet the prescribed spacing requirements due to interference with transmission and suspension components located directly behind the rear seats; and

—There is not enough space behind the rear seating positions to accommodate foldable anchorages.

We conclude that LATCH systems should not be required in rear seating positions where it is impossible, due to interference with transmission and/or suspension components located directly behind the rear seats, to locate the lower anchorages so as to make it possible to meet the attitude angles of S15.1.2.2.¹² We believe that this decision will affect relatively few vehicles overall. We are not aware of any other model that cannot meet both spacing and pitch, roll, and yaw requirements.

¹² We have concluded that the proposed wording from Porsche regarding “four seat rear engine vehicles” is overly broad and should not be adopted. In the future, it may be practicable for some four seat rear engine vehicles to have a LATCH system in a rear designated seating position.

We are not requiring Porsche in this situation to install a LATCH system in the front seat, unless it installs an on-off switch for the seat.¹³ (Porsche has a system that turns off the air bag(s) for the front passenger seating position when used with Porsche's child restraint that is specially fitted with a latch plate device that fits into a bracket on the vehicle. The system does not turn off the air bag when the device is not used, as would happen when child restraints other than Porsche's are used in the vehicle.) However, we will require manufacturers of vehicles that do not have a LATCH system in a rear designated seating positions under the exclusion, and no air bag on-off switch, to provide a tether anchorage for the front passenger seating position. The tether anchorage is required to increase the likelihood that when a forward-facing child restraint is installed in the front passenger seating position, in a frontal crash the back of the child restraint will be retained as far as possible from injury-causing surfaces. We will require the tether anchorage in the vehicles beginning September 1, 2001, to provide adequate leadtime. If a vehicle is equipped with an air bag on-off switch, there must be a LATCH system in a designated passenger seating position in the front seat (see S5(c)(1)(ii) and (2)(ii) of Standard No. 225).

¹³ Vehicles are prohibited from having a LATCH system in a front passenger seating position in the absence of an on-off switch. The purpose of the prohibition is to reduce the likelihood that a child restraint system would be used in the front seat with an air bag. A LATCH system invites consumers to place a child restraint in the front seat and implies that the position is appropriate for children.

e. Subjecting Tether Anchorages and Lower Anchorages to a Single Pull Test

The March 1999 final rule specified (S6.3.3) that the tether anchorage for a seating position need not meet requirements after the lower anchorages of the LATCH system of that position have met the standard's strength requirements. (We test a tether anchorage at a seating position that has the lower anchorages of a LATCH system by attaching the child restraint surrogate device (SFAD 2) to the lower anchorages and to the tether anchorage. Thus, in the tether anchorage test, both the lower anchorages and the tether anchorage are simultaneously stressed.) The Alliance asked that we also exclude tether anchorages from requirements if the lower bars at adjacent seating positions have been tested.

The petitioner is referring to the case where there are two LATCH systems on the outboard seating positions of a 3-passenger seat, and the inboard anchorages of these systems are approximately 280 mm apart, so that it would be possible to install a child restraint in the center position. The petitioner is concerned that if one of the outboard LATCH systems is tested, NHTSA could test the center position tether using the two inboard anchorages, one of which was already tested—and weakened—in the previous test. We agree that an anchorage should not be subjected to more than one pull test. Anchorages may be weakened and/or distorted in a previous test and may not perform as they would in an actual crash.

The March 1999 final rule specified (S9.4.2) that in the case of vehicle seat assemblies equipped with more than one LATCH system, we may choose to test each LATCH system simultaneously or sequentially. “Sequential testing may, at the agency's option, include testing one system to the requirement of S9.4.1(a) [forward pull] and another system to S9.4.1(b) [lateral pull]. * * *” The Alliance petitioned us to delete the provision allowing for sequential testing. The Alliance believes that the test of the first system could affect the results of a subsequent pull test to an adjacent LATCH system, and vice versa. The petitioner states that manufacturers cannot predict which test sequences would likely be most severe, so the sequential test requirement necessitates multiple development and compliance tests to investigate the interaction of various potential test sequences.

We have decided to delete the sequential test provision. We do not need the provision to test the second LATCH system in a subsequent test.

The March 1999 final rule also specified (S9.4.2) that the lower anchorage bars of a particular LATCH system need not meet further requirements after having met the forward-pull strength requirement or either lateral-pull requirement. The Alliance petitioned us to further specify that lower anchorages will not be subjected to further forces if they have been already subjected to a test assessing the strength of a tether anchorage. Petitioner believes that the tether anchorage test could weaken and/or distort the lower anchorage bars, so it would be inappropriate to subject the lower bars to further testing. It was an oversight not to have included the provision in S9.4.1. Thus, we have amended the section as suggested.

f. Simultaneously Testing LATCH Systems

In its petition for reconsideration of the March 1999 and August 1999 final rules, the Alliance asked us to consider amending the provisions in Standard No. 225 pertaining to the simultaneous testing of LATCH anchorages.

There are a number of references in Standard No. 225 to simultaneous testing. S9.4.2 specifies, inter alia, that where vehicle seat assemblies are equipped with more than one LATCH system, the LATCH systems may be tested simultaneously. There is a comparable requirement in S15.3.3 under the option that permits manufacturers to meet the draft ISO requirements for an interim period. If anchorages for more than one LATCH system are installed in a vehicle seat assembly and not directly into the vehicle structure, the LATCH systems shall be tested simultaneously. A “simultaneously tested” provision is also found in S6.3.3 for testing tether anchorages to the 15,000 N strength requirement, and in S6.3.4.3 for testing tether anchorages for an interim period to the Canadian strength requirements.

The Alliance addressed the issue of simultaneous testing of multiple anchorages in a seating row in its April 1999 petition for reconsideration. The Alliance believed that the provision was too broad because it required simultaneous testing of anchorage systems even when the width of a vehicle seat made it unlikely that all anchorage systems would be simultaneously used. The Alliance stated:

In North America, because most child restraints are expected to be attached by webbing rather than by rigid attachments, there is added flexibility to install child restraints side-by-side. Therefore, the Alliance suggests that simultaneous testing be specified if the lower anchors for adjacent anchor systems are 120 mm or more apart, measured laterally between the lateral centers of the anchor bars.

Based on the above, the Alliance petitioned the agency to amend S9.4.2 to “clarify that simultaneous testing applies [when testing LATCH systems] only when anchor forces from multiple child restraint anchorage systems are applied to a single vehicle seat assembly, apply only if there is 120 mm or more lateral spacing between adjacent anchors for adjacent anchorage systems, and do not apply when forces are transferred directly to the vehicle structure.”

In a letter to the agency on April 3, 2000, DaimlerChrysler also suggested that S9.4.2 should be interpreted not to require simultaneous testing of three LATCH systems on a vehicle seat if the seat row is not wide enough to allow three child restraints to be installed at the same time. DaimlerChrysler said that it has measured the widths of conventional child restraints and has developed a method by which the agency could determine whether more than two child restraints could simultaneously fit on a vehicle seat. Based on measurements of a range of available child restraints, DaimlerChrysler contended that a center-to-center distance between adjacent seating positions of at least 400 mm is necessary to install child restraints in adjacent seating positions properly. The width of the SFAD 1 and SFAD 2 devices (280 mm and 320 mm, respectively) are significantly narrower than the representative child restraints identified by DaimlerChrysler, and thus, DaimlerChrysler believes, the SFAD devices should not be used to determine whether adjacent seating positions should be subjected to simultaneous testing by NHTSA.

Based on its analysis, DaimlerChrysler recommended that adjacent seating positions should only be subject to simultaneous testing if two child restraints, 400 mm wide, can be properly installed side-by-side. To determine this, DaimlerChrysler recommended adoption of the following procedure:

(a) Determine the geometric center of the seating position, as the midpoint between the geometric centers of the lower anchorages (bars) of the seating position.

(b) Construct a vertical longitudinal plane intersecting the midpoint of each seating position.

(c) Measure the distance between the midpoints of adjacent seating positions.

(d) Do not test adjacent positions simultaneously if the distance between the midpoints of adjacent seating positions is less than 400 mm.

The approaches recommended in the April 1999 Alliance petition for reconsideration and in the April 2000 DaimlerChrysler request for interpretation—while different—yield the same minimum spacing between anchorages required for testing multiple child restraints in a seating row simultaneously. NHTSA concurs that where there are seat configurations where three adjacent seating positions are equipped with lower anchorages, but where it will be physically impossible to have three child restraints properly installed in these seating positions simultaneously, there is no need to test all three LATCH systems (or tether anchorages) simultaneously. We are adopting DaimlerChrysler's approach, and not the Alliance's, because it is more clearly understandable than the Alliance's approach for measuring the lateral spacing between lower anchorages for adjacent anchorage systems.

g. Requirement To Identify Vehicles Certified to the Vehicle Requirements During the Phase-In

DaimlerChrysler petitioned for reconsideration of the requirement in the March 1999 final rule that during the tether anchor and LATCH system phase-in periods, manufacturers must, upon request from NHTSA, provide information identifying the vehicles that have been certified as complying with Standard No. 225's requirements (S13.1 and S14.1 of Standard No. 225; § 596.5 of Part 596). The manufacturer also objected to the rule's provision that the manufacturer's designation of a vehicle as a certified vehicle is irrevocable (the “irrevocability” provision).

We explained in the rule that, where a safety standard provides manufacturers a phase-in period for a requirement to take effect, the agency needs to know whether a vehicle has been certified as meeting the standard when it selects a vehicle to test. A phased-in requirement typically includes a reporting requirement for manufacturers to identify to NHTSA which vehicles have been certified to the standard, but the report is made after the end of a production year. To enable NHTSA to identify which vehicles have been certified as part of the phase-in fleet during the production year, upon request, manufacturers must identify the vehicles during the production year that have been certified as complying with Standard No. 225. In addition, the standard precludes a manufacturer—when confronted with an apparent noncompliance'from attempting to avoid a recall or civil penalty by asserting that it had satisfied the percentage phase-in requirements with other vehicle models. We believed then, and continue to do so now, that a manufacturer should be responsible for assuring that its certification of its vehicles is accurate and that consequences must attach if it fails to do so. In addition, we noted that such a response by a manufacturer would create obvious difficulties for the agency in managing its resources for carrying out its enforcement responsibilities.

DaimlerChrysler stated that the reporting requirement and the irrevocability provision serve no safety function, are impracticable and overly burdensome, and should be deleted. With respect to the irrevocability clause, the petitioner stated that:

When manufacturers plan to meet phase-in requirements, they consider which vehicle lines should comply with the regulation first. In doing so, to insure compliance, manufacturers plan to meet the phase-in requirement by including a percentage margin. During the production year, unforeseeable circumstances arise, such as supplier issues and production line issues, which make parts unavailable. Additionally, there are times when manufacturers comply with a phase-in by implementing running changes. These plans can be delayed, such that the vehicle may not phase-in until later than originally planned. If, in either of these instances, the manufacturer had made a prior declaration of vehicle compliance to the agency, they could be subject to non-compliance penalties even though their annual percentage of complying vehicles still meets or exceeds the minimum required. [Emphasis in text.]

DaimlerChrysler's contention misconstrues the language of the standard. Manufacturers were not required to identify in advance those vehicle models that would comply with the requirements during the phase-in; they were only required to identify particular vehicles that were so certified. Thus, any changes due to “unforeseen circumstances” or running changes implemented during the model year would not cause any certification difficulties. A manufacturer would simply advise the agency which particular vehicles (e.g., those manufactured before a specific date) were certified as complying with the requirements of the standard. Accordingly, the provisions in S13.1, S14.1 and in 49 CFR § 596.5 are retained.

V. Request to Reconsider Owner's Manual Requirement

The March 1999 final rule included a requirement that vehicle owner's manuals must have step-by-step instructions, including diagrams, for properly attaching a child restraint to the lower anchors and tether anchor of a LATCH system. The Alliance asked in its April 1999 petition for reconsideration that we delete the requirement. The Alliance stated that the requirement calls for too much detail, and that vehicle manufacturers will not know all the different types of child restraint attachments that may be on the market.

Our August rule granted this request in part and denied it in part. We agreed that vehicle manufacturers may find it difficult to anticipate how different types of child restraints will be designed to attach to the lower anchor bars of a vehicle's LATCH system, and thus we deleted the requirement for detailed instructions about that issue. However, we decided to retain the requirement that vehicle owner's manuals provide detailed instructions on attaching a child restraint to a tether anchor. This was because Standard No. 213 specifies the configuration and geometry of the tether hook. Thus, we determined, vehicle manufacturers can develop their written instructions with the tether hook design in mind.

The Alliance's October 1999 petition for reconsideration asked for reexamination of this decision based on leadtime. The Alliance asked that the effective date for the requirement on detailed instructions on the tether be deferred one year from September 1, 1999, “which coincides with the date when the tether anchorage requirement becomes effective for 100% of passenger cars, and the applicable MPVs, trucks and buses.”

The request is denied. The leadtime for the requirement was adequate, because manufacturers generally order owner's manuals three to four months (in June or July) before the start of the new model year of production. (See March 9, 1999 final rule amending the consumer information regulations to require a new rollover warning label.) The information is important to increase the likelihood that parents will attach a top tether on the child restraint system. A tethered child restraint offers improved protection against head impact in a crash.

VI. Issues Relating to Small Manufacturers and Manufacturers With Temporary Exemptions

a. Alternative Phase-In Schedule for Small Manufacturers

In its April 1999 petition for reconsideration of the March 1999 final rule, the Coalition of Small Volume Automobile Manufacturers (COSVAM) stated that the March 1999 rule should provide an alternative phase-in for small manufacturers. COSVAM requested that a company with only one carline should be permitted to comply with the requirements for lower anchors beginning September 1, 2002, rather than September 1, 2000. COSVAM indicated that its members produce fewer than 5,000 vehicles per year worldwide.

We are granting the request to provide small manufacturers more flexibility to install LATCH systems. We are providing that vehicles that are manufactured by a manufacturer that produces fewer than 5,000 vehicles worldwide annually are not required to meet the requirements for lower anchors until September 1, 2002.

b. Manufacturers With Temporary Exemption From Air Bag Requirement

S4 of Standard No. 225 generally requires vehicles without any rear designated seating positions to be equipped with a tether anchorage at each front passenger seating position. In those cases in which such a vehicle is equipped with an air bag on-off switch in accordance with S4.5.4 of Standard No. 208 (i.e., the vehicle either has no rear seating positions, or rear seating positions that are too small to accommodate a rear-facing child restraint), the vehicle must be equipped with a LATCH system in a front designated passenger seating position. If the vehicle does not have an on-off switch, the manufacturer is prohibited from equipping the front passenger seating position with a LATCH system.

In a petition for reconsideration, Global Vehicle Services Corporation (Global) asks about the application of Standard No. 225 to vehicle manufacturers that have received a Part 555 temporary exemption from the air bag requirements of Standard No. 208. As a result of such a temporary exemption, exempted vehicles might not be equipped with a front passenger seat air bag.

There are currently four vehicle manufacturers that have been granted exemptions until March 31, 2001, from the air bag requirements of Standard No. 208. Three of these manufacture two-seat convertibles, while the fourth manufactures a sport utility vehicle.

For the purposes of whether a LATCH should be installed in the front seat of the vehicles, we have considered several factors. First is whether there is a rear seating position in which to place a LATCH system. If the vehicle has a rear designated seating position, a LATCH should be placed there, regardless of whether there is an air bag for the front passenger seating position. This is because children are safer seated in a rear seat than in the front seat, regardless of whether an air bag is installed. Second, if there is no rear seat in which to place a child, the question of whether a LATCH system should be at the front passenger designated seating position is answered by whether that position is equipped with an air bag. If an air bag is present that cannot be turned off, that seating position is unsuitable for a LATCH system.

We consider a vehicle with no rear seat whose front seating position does not have any air bag (because of a temporary exemption) analogous to a vehicle with no rear seat whose front seating position is equipped with an air bag and an air bag on-off switch. In both vehicles, the front passenger seating position should be equipped with a LATCH system to fully realize the benefits associated with this improved method of securing child restraints. Thus, we have concluded that vehicles with no rear designated seating positions and no passenger seat air bag due to a temporary exemption must have a LATCH system installed at a front passenger seating position. However, convertibles need have only the lower anchorages of a LATCH system, because they would remain excluded from the tether requirements of Standard No. 225 (see S5(a)). We will require the LATCH system in such vehicles beginning September 1, 2002. An earlier effective date would not provide adequate leadtime to meet the requirement.

A vehicle with a rear seat that meets the conditions in S4.5.4.1(b) of Standard No. 208 whose front seating position does not have any air bag (because of a temporary exemption) is analogous to a vehicle with a small rear seat whose front seating position is equipped with an air bag and an air bag on-off switch. In both vehicles, a LATCH system in a front passenger seating position is needed to fully realize the benefits associated with this improved method of securing child restraints. Thus, for both vehicles, we are requiring a LATCH system in a front passenger seating position in place of one of the LATCH systems required to be installed in the rear seat. In the case of convertibles, the front designated passenger seating position need have only the two lower anchorages meeting the requirements of S9 of the standard.

VII. Reasons for the Effective Date of This Rule

Section 30111(d) of the motor vehicle safety statute (Title 49 U.S.C., Chapter 301) provides that a safety standard may not become effective before the 180th day after the standard is prescribed or later than one year after it is prescribed, unless we find, for good cause shown, that a different effective date is in the public interest and publish the reasons for the finding. The effective date for this final rule is 30 days after publication. Today's rule generally does not impose new requirements on manufacturers but extends alternative strength requirements for an interim period. We are delaying the more stringent requirements to allow manufacturers more certainty in designing future vehicles. To the extent that this rule places new requirements on some manufacturers (e.g., manufacturers of vehicles that do not have air bags pursuant to a temporary exemption under Part 555), this rule provides two years leadtime for the manufacturers to comply. This rule also clarifies some requirements and test procedures that were specified in the March 1999 final rule and that become mandatory beginning September 1, 2000. Because of these considerations, it is in the public interest for the effective date for today's rule to be less than 180 days after issuance of this rule.

VIII. Rulemaking Analyses and Notices

a. Executive Order 12866 (Regulatory Planning and Review) and DOT Regulatory Policies and Procedures

This rulemaking document was not reviewed under E.O. 12866, “Regulatory Planning and Review.” We have considered the impacts of this rulemaking action and have determined that this action is not “significant” within the meaning of the Department of Transportation's regulatory policies and procedures. We have further determined that the effects of this rulemaking are sufficiently minimal that preparation of a full preliminary regulatory evaluation is not warranted. We believe that manufacturers will be minimally affected by this rulemaking because generally it does not change the manufacturers' responsibilities to install tether anchorages and LATCH systems on the compliance dates of the March 5, 1999 final rule. The rule instead extends the period during which manufacturers may meet, at the manufacturer's option, alterative strength requirements. This rule also clarifies some requirements and test procedures, but overall does not impose new test burdens. Because the amendment is permissive in nature, there are no costs associated with it.

b. Regulatory Flexibility Act

NHTSA has considered the effects of this rulemaking action under the Regulatory Flexibility Act. I hereby certify that it will not have a significant economic impact on a substantial number of small entities. This rule affects motor vehicle manufacturers, almost all of which are not small business. Even if there are motor vehicle manufacturers that qualify as small entities, this rule will not have a significant economic impact on them because these amendments are generally permissive in nature, and have no costs associated with them. Accordingly, the agency has not prepared a regulatory flexibility analysis.

c. Executive Order 13132 (Federalism)

This rulemaking action has been analyzed in accordance with the principles and criteria contained in Executive Order 13132. This rule will not have a substantial direct effect on States, on the relationship between the national government and the States, or on the distribution of power and responsibilities among the various levels of government, as specified in Executive Order 13132. Accordingly, NHTSA has determined that this final rule does not contain provisions that have federalism implications or that preempt State law.

d. Unfunded Mandates Reform Act

The Unfunded Mandates Reform Act of 1995 (Public Law 104-4) requires agencies to prepare a written assessment of the costs, benefits and other effects of proposed or final rules that include a Federal mandate likely to result in the expenditure by State, local or tribal governments, in the aggregate, or by the private sector, of more than $100 million annually. This rule does not impose any unfunded mandates as defined by that Act.

e. National Technology Transfer and Advancement Act

Under the National Technology Transfer and Advancement Act of 1995 (NTTAA)

(Public Law 104-113),

all Federal agencies and departments shall use technical standards that are developed or adopted by voluntary consensus standards bodies, using such technical standards as a means to carry out policy objectives or activities determined by the agencies and departments.

In developing Standard No. 225, we searched for standards developed or adopted by voluntary consensus standards bodies and found that the only standard for a child restraint anchorage system was the draft ISO standard.

This final rule extends the period during which manufacturers may meet the specifications in the draft ISO standard. The International Organization for Standardization (ISO) is a worldwide voluntary federation of ISO member bodies.

f. National Environmental Policy Act

NHTSA has analyzed this rulemaking action for the purposes of the National Environmental Policy Act. The agency has determined that implementation of this action will not have any significant impact on the quality of the human environment.

g. Executive Order 12778 (Civil Justice Reform)

This rule does not have any retroactive effect. Under section 49 U.S.C. 30103, whenever a Federal motor vehicle safety standard is in effect, a state may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

h. Paperwork Reduction Act

This rule does not contain any collection of information requirements requiring review under the Paperwork Reduction Act of 1995 (Public Law 104-13). We noted in the March 1999 final rule that the phase-in production reporting requirements described in that rule are considered to be information collection requirements as defined by the Office of Management and Budget (OMB) in 5 CFR part 1320. NHTSA will be submitting a clearance request to OMB for review and clearance in this summer.¹⁴

¹⁴ Pursuant to the Paperwork Reduction Act and OMB's regulations at 5 CFR 1320.5(b)(2), NHTSA informs the potential persons who are to respond to the collection of information that such persons are not required to respond to the collection of information unless it displays a currently valid OMB control number. The agency's current OMB control numbers are displayed in NHTSA's regulations at 49 CFR Part 509, OMB Control Numbers for Information Collection Requirements.

List of Subjects in 49 CFR Part 571

Imports, Incorporation by reference, Motor vehicle safety, Reporting and recordkeeping requirements, Tires.

In consideration of the foregoing, NHTSA amends 49 CFR Chapter V as set forth below.

PART 571—FEDERAL MOTOR VEHICLE SAFETY STANDARDS

1. The authority citation for Part 571 continues to read as follows:

Authority: 49 U.S.C. 322, 30111, 30115, 30166 and 30177; delegation of authority at 49 CFR 1.50.

2. Section 571.225 is amended by:

a. Revising S4.5 introductory text;

b. Adding S5(c)(1)(iii), S5(c)(2)(iii) and S5(e);

c. Revising S6.2, S6.2.1, S6.2.2.1 introductory text, S6.3, S6.3.3, S6.3.4.1 introductory text, S6.3.4.3, S9, and S9.3(c);

d. Adding S9.4.1.2,

e. Revising S9.4.2 and S10(a);

f. Revising S14.3 in its entirety;

g. Revising S15 and S15.1.2.1(f);

h. Removing and reserving S15.1.2.1(d) and S15.1.2.1(e);

i. Revising S15.2.2, S15.3.3, and S15.4; and

j. Adding Figure 20 after Figure 19.

The revised and added text and figure read as follows:

§ 571.225 Standard No. 225; Child restraint anchorage systems.

* * * * *

S4.5 As an alternative to complying with the requirements of S4.2 through S4.4 that specify the number of tether anchorages that are required in a vehicle and the designated seating positions for which tether anchorages must be provided, a vehicle manufactured from September 1, 1999 to August 31, 2004 may, at the manufacturer's option (with said option irrevocably selected prior to, or at the time of, certification of the vehicle), meet the requirements of this S4.5. This alternative ceases to be available on and after September 1, 2004. A tether anchorage conforming to the requirements of S6 must be installed—

* * * * *

S5. General exceptions.

* * * * *

(c)(1) * * *

(iii) For vehicles manufactured on or after September 1, 2002, each vehicle that does not have a rear designated seating position, and does not have an air bag installed at front passenger designated seating positions pursuant to a temporary exemption granted by NHTSA under 49 CFR Part 555, must have a child restraint anchorage system installed at a front passenger designated seating position. In the case of convertibles, the front designated passenger seating position need have only the two lower anchorages meeting the requirements of S9 of this standard.

* * * * *

(c)(2) * * *

(iii) For vehicles manufactured on or after September 1, 2002, each vehicle that has a rear designated seating position and meets the conditions in S4.5.4.1(b) of Standard No. 208 (§ 571.208), and does not have an air bag installed at front passenger designated seating positions pursuant to a temporary exemption granted by NHTSA under 49 CFR Part 555, must have a child restraint anchorage system installed at a front passenger designated seating position in place of one of the child restraint anchorage systems that is required for the rear seat. In the case of convertibles, the front designated passenger seating position need have only the two lower anchorages meeting the requirements of S9 of this standard.

* * * * *

(e) A vehicle with a rear designated seating position for which interference with transmission and/or suspension components prevents the location of the lower bars of a child restraint anchorage system anywhere within the zone described by S9.2 or S15.1.2.2(b) such that the attitude angles of S15.1.2.2(a) could be met, is excluded from the requirement to provide a child restraint anchorage system at that position. However, except as provided elsewhere in S5 of this standard, for vehicles manufactured on or after September 1, 2001, such a vehicle must have a tether anchorage at a front passenger designated seating position.

* * * * *

S6.2 Location of the tether anchorage. A vehicle manufactured on or after September 1, 1999 and before September 1, 2004 may, at the manufacturer's option (with said option irrevocably selected prior to, or at the time of, certification of the vehicle), meet the requirements of S6.2.1 or S6.2.2. Vehicles manufactured on or after September 1, 2004 must meet the requirements of S6.2.1 of this standard.

S6.2.1 Subject to S6.2.1.1 and S6.2.1.2, the part of each tether anchorage that attaches to a tether hook must be located within the shaded zone shown in Figures 3 to 7 of this standard of the designated seating position for which it is installed. The zone is defined with reference to the seating reference point (see § 571.3). (For purposes of the figures, “H Point” is defined to mean seating reference point.)

* * * * *

S6.2.2.1 In passenger cars and multipurpose passenger vehicles manufactured before September 1, 2004, the portion of each user-ready tether anchorage to which a tether strap hook attaches may be located within the shaded zone shown in Figures 8 to 11 of the designated seating position for which it is installed, with reference to the shoulder reference point of a template described in section 3.1 of SAE Standard J826 (June 1992) (incorporation by reference; see § 571.5), if:

* * * * *

S6.3 Strength requirements for tether anchorages. Subject to S6.3.2, a vehicle manufactured on or after September 1, 1999, and before September 1, 2004 may, at the manufacturer's option (with said option irrevocably selected prior to, or at the time of, certification of the vehicle), meet the requirements of S6.3.1 or S6.3.4. Subject to S6.3.2, vehicles manufactured on or after September 1, 2004 must meet the requirements of S6.3.1 of this standard.

* * * * *

S6.3.3 Provisions for simultaneous and sequential testing.

(a) In the case of vehicle seat assemblies equipped with more than one tether anchorage system, the force referred to in S6.3.1 and S6.3.2 may, at the agency's option, be applied simultaneously to each of those tether anchorages. However, that force may not be applied simultaneously to tether anchorages for any two adjacent seating positions whose midpoints are less than 400 mm apart, as measured in accordance with S6.3.3(a)(1) and (2) and Figure 20.

(1) The midpoint of the seating position lies in the vertical longitudinal plane that is equidistant from vertical longitudinal planes through the geometric center of each of the two lower anchorages at the seating position.

(2) Measure the distance between the vertical longitudinal planes passing through the midpoints of the adjacent seating positions, as measured along a line perpendicular to the planes.

(b) A tether anchorage of a particular child restraint anchorage system will not be tested with the lower anchorages of that anchorage system if one or both of those lower anchorages have been previously tested under this standard.

* * * * *

S6.3.4.1 In a passenger car manufactured before September 1, 2004, every user-ready tether anchorage in a row of designated seating positions must, when tested, subject to subsection S6.3.4.2, withstand the application of a force of 5,300 N, which force must be—

* * * * *

S6.3.4.3 Provisions for simultaneous and sequential testing.

(a) In the case of vehicle seat assemblies equipped with more than one tether anchorage system, the force referred to in S6.3.4, 6.3.4.1 or S6.3.4.2 may, at the agency's option, be applied simultaneously to each of those tether anchorages. However, that force may not be applied simultaneously to tether anchorages for any two adjacent seating positions whose midpoints are less than 400 mm apart, as measured in accordance with S6.3.4.3(a)(1) and (2) and Figure 20.

(1) The midpoint of the seating position lies in the vertical longitudinal plane that is equidistant from vertical longitudinal planes through the geometric center of each of the two lower anchorages at the seating position.

(2) Measure the distance between the vertical longitudinal planes passing through the midpoints of the adjacent seating positions, as measured along a line perpendicular to the planes.

(b) A tether anchorage of a particular child restraint anchorage system will not be tested with the lower anchorages of that anchorage system if one or both of those lower anchorages have been previously tested under this standard.

* * * * *

S9 Requirements for the lower anchorages of the child restraint anchorage system. As an alternative to complying with the requirements of S9, a vehicle manufactured on or after September 1, 1999 and before September 1, 2004 may, at the manufacturer's option (with said option irrevocably selected prior to, or at the time of, certification of the vehicle), meet the requirements in S15 of this standard. Vehicles manufactured on or after September 1, 2004 must meet the requirements of S9 of this standard.

* * * * *

S9.3 * * *

(c) To facilitate installation of the CRF in a vehicle seat, the side, back and top frames of the CRF may be removed for installation in the vehicle, as indicated in Figure 1A of this standard. If necessary, the height of the CRF may be 560 mm.

* * * * *

S9.4.1.2 The amount of displacement is measured relative to an undisturbed point on the vehicle body.

* * * * *

S9.4.2 Provisions for simultaneous and sequential testing.

(a) In the case of vehicle seat assemblies equipped with more than one child restraint anchorage system, the lower anchorages may, at the agency's option, be tested simultaneously. However, forces may not be applied simultaneously for any two adjacent seating positions whose midpoints are less than 400 mm apart, as measured in accordance with S9.4.2(a)(1) and (2) and Figure 20.

(1) The midpoint of the seating position lies in the vertical longitudinal plane that is equidistant from vertical longitudinal planes through the geometric center of each of the two lower anchorages at the seating position.

(2) Measure the distance between the vertical longitudinal planes passing through the midpoints of the adjacent seating positions, as measured along a line perpendicular to the planes.

(b) The lower anchorages of a particular child restraint anchorage system will not be tested if one or both of the anchorages have been previously tested under this standard.

* * * * *

S10. Test conditions for testing the lower anchorages. * * *

(a) Adjust vehicle seats to their full rearward and full downward position and place the seat backs in their most upright position. When SFAD 2 is used in testing and cannot be attached to the lower anchorages with the seat back in this position, adjust the seat back as recommended by the manufacturer in its instructions for attaching child restraints. If no instructions are provided, adjust the seat back to the position closest to the upright position that enables SFAD 2 to attach to the lower anchorages.

* * * * *

S14. Lower anchorage phase-in requirements for vehicles manufactured on or after September 1, 2000 and before September 1, 2002.

* * * * *

S14.3 Alternative phase-in schedules.

(a) Final-stage manufacturers and alterers. A final-stage manufacturer or alterer may, at its option, comply with the requirements set forth in S14.3(a)(1) and (2) instead of the requirements set forth in S14.1.1 through S14.1.2.

(1) Vehicles manufactured on or after September 1, 2000 and before September 1, 2002 are not required to comply with the requirements specified in this standard.

(2) Vehicles manufactured on or after September 1, 2002 must comply with the requirements specified in this standard.

(b) Small volume manufacturers. Vehicles manufactured on or after September 1, 2000 and before September 1, 2002 that are manufactured by a manufacturer that produces fewer than 5,000 vehicles worldwide annually are not required to provide the lower anchorages specified in this standard.

* * * * *

S15 Alternative to complying with the requirements of S9. As an alternative to complying with the requirements of S9, a vehicle manufactured on or after September 1, 1999 and before September 1, 2004 may, at the manufacturer's option (with said option irrevocably selected prior to, or at the time of, certification of the vehicle), meet the requirements in S15 of this standard. Vehicles manufactured on or after September 1, 2004 must meet the requirements of S9 of this standard.

* * * * *

S15.1.2 Anchorage dimensions and location.

S15.1.2.1 The lower anchorages must consist of two bars that—

* * * * *

(d) [Reserved]

(e) [Reserved]

(f) Are permanently attached to the vehicle or vehicle seat such that they can only be removed by use of a tool, such as a screwdriver or wrench.

S15.2.2 Horizontal excursion of point X during application of the 8 kN and 5 kN forces must be not more than 125 mm, after preloading the device. The amount of displacement is measured relative to an undisturbed point on the vehicle body.

* * * * *

S15.3.3 Provisions for simultaneous and sequential testing.

(a) If anchorages for more than one child restraint anchorage system are installed in the vehicle seat assembly and not directly into the vehicle structure, the forces described in S15.3 may, at the agency's option, be applied simultaneously to SFADs engaged with the anchorages. However, that force may not be applied simultaneously to SFADs engaged at any two adjacent seating positions whose midpoints are less than 400 mm apart, as measured in accordance with S15.3.3(a)(1) and (2) and Figure 20.

(1) The midpoint of the seating position lies in the vertical longitudinal plane that is equidistant from vertical longitudinal planes through the geometric center of each of the two lower anchorages at the seating position.

(2) Measure the distance between the vertical longitudinal planes passing through the midpoints of the adjacent seating positions, as measured along a line perpendicular to the planes.

(b) The lower anchorages of a particular child restraint anchorage system will not be tested if one or both of the anchorages have been previously tested under this standard.

* * * * *

S15.4 Marking and conspicuity of the lower anchorages. At least one anchorage bar (when deployed for use), one guidance fixture, or one seat marking feature shall be readily visible to the person installing the CRF. If guidance fixtures are used to meet this requirement, the fixture(s) (although removable) must be installed. Storable anchorages shall be provided with a tell-tale or label that is visible when the anchorage is stored.

* * * * *

BILLING CODE 4910-59-P

Issued on: July 25, 2000.
Rosalyn G. Millman,
Deputy Administrator.

[FR Doc. 00-19123 Filed 7-25-00; 5:00 pm]

BILLING CODE 4910-59-C